DEPARTMENT OF COMMERCE

International Trade Administration

[A-570-010]

Certain Crystalline Silicon Photovoltaic Products From the People's Republic of China: Final Results of Antidumping Duty Administrative Review and Final Determination of No Shipments; 2021-2022

AGENCY: Enforcement and Compliance, International Trade Administration, Department of Commerce.

SUMMARY: The U.S. Department of Commerce (Commerce) determines that the sole mandatory respondent under review sold subject merchandise at less than normal value during the period of review (POR), February 1, 2021, through January 31, 2022. Additionally, Commerce determines that Hubei Trina Solar Energy Co., Ltd. (THB) and Trina Solar (Hefei) Science and Technology Co., Ltd. (THFT) did not ship subject merchandise during the POR.

DATES: Applicable September 8, 2023.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On March 9, 2023, Commerce published the Preliminary Results of this review in the Federal Register and invited interested parties to comment on those results.¹ For details regarding the events that occurred subsequent to publication of the Preliminary Results, see the Issues and Decision Memorandum.² Commerce conducted this administrative review in accordance with section 751 of the Tariff Act of 1930, as amended (the Act).

¹ See Certain Crystalline Silicon Photovoltaic Products from the People's Republic of China: Preliminary Results of Antidumping Duty Administrative Review, Partial Rescission of Antidumping Administrative Review, and Preliminary Determination of No Shipments; 2021-2022, 88 FR 14602 (March 9, 2023) (Preliminary Results), and accompanying Preliminary Decision Memorandum (PDM).

² See Memorandum, “Issues and Decision Memorandum for the Final Results of the 2021-2022 Antidumping Duty Administrative Review of Certain Crystalline Silicon Photovoltaic Products from the People's Republic of China,” (Issues and Decision Memorandum), dated concurrently with, and hereby adopted by, this notice.

Scope of the Order ³

³ See Certain Crystalline Silicon Photovoltaic Products from the People's Republic of China: Antidumping Duty Order; and Amended Final Affirmative Countervailing Duty Determination and Countervailing Duty Order, 80 FR 8592 (February 18, 2015) (Order). For a complete description of the scope of the Order, see the Issues and Decision Memorandum.

The products covered by the Order are certain crystalline silicon photovoltaic products (solar products) from the People's Republic of China (China). Merchandise covered by the Order is currently classified in the Harmonized Tariff Schedule of the United States (HTSUS) under subheadings 8501710000, 8501721000, 8501722000, 8501723000, 8501729000, 8501801000, 8501802000, 8501803000, 8501809000, 8507208031, 8507208041, 8507208061, 8507208091, 8541420010, and 8541430010. These HTSUS subheadings are provided for convenience and customs purposes; the written description of the scope of the Order is dispositive.

Analysis of Comments Received

We addressed all the issues raised in the case and rebuttal briefs in the Issues and Decision Memorandum. A list of the issues that parties raised, and to which we responded in the Issues and Decision Memorandum, is provided in an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we corrected a conversion error pertaining the truck freight surrogate value applied to solar cells ⁴ and valued labor using data from the Republic of Turkey, rather than Malaysia.⁵

⁴ See Issues and Decision Memorandum at Comment 1.

⁵ Id. at Comment 5.

Final Determination of No Shipments

In the Preliminary Results, Commerce determined that THB and THFT did not sell or export subject merchandise to, nor was their subject merchandise entered into, the United States during the POR.⁶ Interested parties did not comment on Commerce's “no shipments” determination. Because we have no basis to reconsider this determination, Commerce has continued to determine that THB and THFT did not sell or export subject merchandise to, nor was their subject merchandise entered into, the United States during the POR.

⁶ See Preliminary Results PDM at 5.

Separate Rates

In the Preliminary Results, Commerce determined that Trina,⁷ the sole mandatory respondent under review, demonstrated its eligibility for a separate rate. Interested parties did not comment on Commerce's separate rate determination. Because we have no basis to reconsider this determination, Commerce has continued to determine that Trina is eligible for a separate rate.

⁷ Trina refers to the single entity comprising the following companies: Trina Solar (Changzhou) Science & Technology Co., Ltd., Trina Solar Co., Ltd., Yancheng Trina Guoneng Photovoltaic Technology Co., Ltd. (a.k.a. Yancheng Trina Solar Guoneng Science & Technology Co., Ltd.), Trina Solar Yiwu Technology Co., Ltd., Trina Solar (Su Qian) Technology Co., Ltd., Trina Solar (Yancheng Dafeng) Co., Ltd., Changzhou Trina Hezhong Photoelectric Co., Ltd. (a.k.a. Changzhou Trina Hezhong PV Co., Ltd.), Changzhou Trina Solar Yabang Energy Co., Ltd., and Turpan Trina Solar Energy Co., Ltd. Commerce determined that these companies are affiliated within the meaning of 771(33)(F) of the Act, and should be treated as a single entity, in accordance with 19 CFR 351.401(f). See Preliminary Results PDM at 5-6; see also Memorandum, “Antidumping Duty Administrative Review of Certain Crystalline Silicon Photovoltaic Products from the People's Republic of China: Preliminary Affiliation and Collapsing Memorandum,” dated February 28, 2023. Commerce received no comments regarding the determination of affiliation among these companies. Accordingly, Commerce continues to find these companies are affiliated and continues to treat them as a single entity.

Final Results of Review

We are assigning the following weighted-average dumping margin to the firms listed below for the period February 1, 2021, through January 31, 2022:

Exporter | Weighted- average dumping margin (percent)
Trina Solar (Changzhou) Science & Technology Co., Ltd./Trina Solar Co., Ltd./Yancheng Trina Guoneng Photovoltaic Technology Co., Ltd. (a.k.a. Yancheng Trina Solar Guoneng Science & Technology Co., Ltd.)/Trina Solar Yiwu Technology Co., Ltd./Trina Solar (Su Qian) Technology Co., Ltd./Trina Solar (Yancheng Dafeng) Co., Ltd./Changzhou Trina Hezhong Photoelectric Co., Ltd. (a.k.a. Changzhou Trina Hezhong PV Co., Ltd.)/Changzhou Trina Solar Yabang Energy Co., Ltd./Turpan Trina Solar Energy Co., Ltd | 10.50

Disclosure

Commerce intends to disclose to parties to the proceeding the calculations performed for these final results of review within five days of the date of publication of this notice in the Federal Register in accordance with 19 CFR 351.224(b).

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

Commerce will calculate importer-specific assessment rates for antidumping duties, in accordance with 19 CFR 351.212(b)(1). Trina reported reliable entered values. Thus, Commerce intends to calculate importer-specific ad valorem assessment rates by aggregating the amount of dumping calculated for all U.S. sales to the importer and dividing this amount by the total entered value of the merchandise sold to the importer.⁸ Where an importer-specific ad valorem assessment rate is not zero or de minimis, Commerce will instruct CBP to collect the appropriate duties at the time of liquidation. However, where an importer specific ad valorem assessment rate is zero or de minimis, Commerce will instruct CBP to liquidate appropriate entries without regard to antidumping duties.

⁸ See 19 CFR 351.212(b)(1).

For entries that were not reported in the U.S. sales database submitted by Trina, but that were entered under its case number (i.e., at Trina's cash deposit rate), Commerce will instruct CBP to liquidate such entries at the China-wide entity rate (i.e., 152.84 percent).⁹

⁹ See Order, 80 FR at 8595; see also instructions issued to CBP following publication of the Order, Message Number 5061301 (listing the China-wide entity's cash deposit rate as 152.84 percent), dated 03/02/2015, publicly available at https://aceservices.cbp.dhs.gov/adcvdweb/#.

Additionally, for the companies that Commerce determined did not ship subject merchandise during the POR, any suspended entries under the company's case number will be liquidated at the China-wide entity rate.

Cash Deposit Requirements

The following cash deposit requirements will be in effect for all shipments of subject merchandise entered, or withdrawn from warehouse, for consumption on, or after, the date of publication of this notice in the Federal Register, as provided for by section 751(a)(2)(C) of the Act: (1) the cash deposit rate for Trina will be equal to the weighted-average dumping margin that is listed for Trina in the table above; (2) for a previously investigated or reviewed exporter of subject merchandise that is not listed in the table above that has a separate rate, the cash deposit rate will continue to be the exporter's existing cash deposit rate; (3) for all China exporters of subject merchandise that do not have a separate rate, the cash deposit rate will be equal to the weighted-average dumping margin assigned to the China-wide entity, which is 152.84 percent; and (4) for a non-China exporter of subject merchandise that does not have a separate rate, the cash deposit rate will be equal to the weighted-average dumping margin applicable to the China exporter(s) that supplied that non-China exporter.

These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties and/or antidumping duties increased by the amount of the countervailing duties.

Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act and 19 CFR 351.213(h)(2) and 351.221(b)(5).

Dated: September 1, 2023.
Lisa W. Wang,
Deputy Assistant Secretary for Enforcement and Compliance.

Appendix

List of Topics Discussed in the Issues and Decision Memorandum

I. Summary

II. Background

III. Scope of the Order

IV. Changes to the Preliminary Results

V. Discussion of the Issues

Comment 1: Whether Commerce Erred in its Calculations

Comment 2: Whether to Adjust Trina's U.S. Prices for Domestic Subsidies

Comment 3: Whether to Include Additional Subsidy Programs in the Export Subsidy Offset Calculation

Comment 4: The Appropriate Surrogate Value for Coated Glass

Comment 5: The Appropriate Surrogate Value for Labor

VI. Recommendation

[FR Doc. 2023-19424 Filed 9-7-23; 8:45 am]

BILLING CODE 3510-DS-P